DEPARTMENT OF THE TREASURY

Internal Revenue Service

Proposed Collection; Comment Request for Form 8976

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 8976, Notice of Intent to Operate Under Section 501(c)(4).

DATES: Written comments should be received on or before December 20, 2016 to be assured of consideration.

ADDRESSES: Direct all written comments to Tuawana Pinkston, Internal Revenue Service, room 6526, 1111 Constitution Avenue NW., Washington, DC 20224.

FOR FURTHER INFORMATION CONTACT: Requests for additional information or copies of notice should be directed to Allan Hopkins at Internal Revenue Service, Room 6129, 1111 Constitution Avenue NW., Washington, DC 20224, or through the internet, at Allan.M.Hopkins@irs.gov.

SUPPLEMENTARY INFORMATION:

Title: Notice of Intent to Operate Under Section 501(c)(4).

OMB Number: 1545-2161.

Notice Number: Form 8976.

Abstract: This collection of information satisfies the statutory mandate in section 506. This information will be used by IRS to process the submitted notification form for completeness and to determine applicability of the penalties for failure to timely submit the notification imposed by section 6652(c)(4) of the Code.

Current Actions: Extension of currently approved collection. There are no changes being made to this collection at this time.

Type of Review: Extension of currently approved collection.

Affected Public: Individuals and households.

Estimated Number of Respondents: 2,500.

Estimated Average Time per Respondent: 45 mins.

Estimated Total Annual Burden Hours: 1,875 hrs.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: October 14, 2016.
Allan Hopkins,
Tax Analyst.

[FR Doc. 2016-25555 Filed 10-20-16; 8:45 am]

BILLING CODE 4830-01-P